DEPARTMENT OF ENERGY

Federal Energy Regulatory Commission

Combined Notice of Filings #1

Take notice that the Commission received the following electric rate filings:

Docket Numbers: ER16-13-003.

Applicants: Southwest Power Pool, Inc.

Description: Compliance filing: Compliance Filing in ER16-13—Revisions to Att AE re Annual ARR Allocation to be effective 1/28/2016.

Filed Date: 8/4/16.

Accession Number: 20160804-5119.

Comments Due: 5 p.m. ET 8/25/16.

Docket Numbers: ER16-1649-004.

Applicants: California Independent System Operator Corporation.

Description: Motion for Clarification or, in the Alternative, Petition for Limited Waiver of the California Independent System Operator Corporation.

Filed Date: 8/3/16.

Accession Number: 20160803-5173.

Comments Due: 5 p.m. ET 8/24/16.

Docket Numbers: ER16-1791-002.

Applicants: PJM Interconnection, L.L.C.

Description: Tariff Amendment: Amendment to Filing of Revisions to MISO-PJM JOA re CMP-ICP Baseline to be effective 7/25/2016.

Filed Date: 8/4/16.

Accession Number: 20160804-5110.

Comments Due: 5 p.m. ET 8/25/16.

Docket Numbers: ER16-2019-001.

Applicants: Five Points Solar Park LLC.

Description: Tariff Amendment: Change of Proposed Effective Date for Pending Market-Based Rate Tariff to be effective 8/9/2016.

Filed Date: 8/4/16.

Accession Number: 20160804-5084.

Comments Due: 5 p.m. ET 8/25/16.

Docket Numbers: ER16-2322-001.

Applicants: Southwest Power Pool, Inc.

Description: Tariff Amendment: 1518R11 Arkansas Electric Cooperative Corp NITSA NOA to be effective 7/1/2016.

Filed Date: 8/4/16.

Accession Number: 20160804-5033.

Comments Due: 5 p.m. ET 8/25/16.

Docket Numbers: ER16-2369-000.

Applicants: Central Maine Power Company.

Description: § 205(d) Rate Filing: Executed Engineering and Procurement Agreement with FPL Energy Wyman LLC to be effective 7/25/2016.

Filed Date: 8/3/16.

Accession Number: 20160803-5146.

Comments Due: 5 p.m. ET 8/24/16.

Docket Numbers: ER16-2370-000.

Applicants: Freepoint Energy Solutions LLC.

Description: Baseline eTariff Filing: MBR Application to be effective 10/3/2016.

Filed Date: 8/3/16.

Accession Number: 20160803-5149.

Comments Due: 5 p.m. ET 8/24/16.

Docket Numbers: ER16-2371-000.

Applicants: Northern States Power Company, a Minnesota corporation, Northern States Power Company, a Wisconsin corporation.

Description: § 205(d) Rate Filing: 20160802_IA-Migration compliance to be effective 4/16/2016.

Filed Date: 8/3/16.

Accession Number: 20160803-5155.

Comments Due: 5 p.m. ET 8/24/16.

Docket Numbers: ER16-2372-000.

Applicants: ITC Midwest LLC.

Description: § 205(d) Rate Filing: Filing of Master Joint Use Pole Agreement to be effective 10/4/2016.

Filed Date: 8/4/16.

Accession Number: 20160804-5061.

Comments Due: 5 p.m. ET 8/25/16.

Docket Numbers: ER16-2373-000.

Applicants: Midcontinent Independent System Operator, Inc., Ameren Illinois Company.

Description: § 205(d) Rate Filing: 2016-08-04_SA 2722 Notice of Cancellation of Ameren-Dynegy CA (Baldwin) to be effective 8/5/2016.

Filed Date: 8/4/16.

Accession Number: 20160804-5073.

Comments Due: 5 p.m. ET 8/25/16.

Docket Numbers: ER16-2374-000.

Applicants: Midcontinent Independent System Operator, Inc.

Description: Compliance filing: 2016-08-04_Order 827 Compliance (Attachment X) Filing to be effective 9/21/2016.

Filed Date: 8/4/16.

Accession Number: 20160804-5075.

Comments Due: 5 p.m. ET 8/25/16.

Docket Numbers: ER16-2375-000.

Applicants: Pacific Gas and Electric Company.

Description: § 205(d) Rate Filing: E&P Agreement for RE Mustang Two LLC to be effective 8/5/2016.

Filed Date: 8/4/16.

Accession Number: 20160804-5083.

Comments Due: 5 p.m. ET 8/25/16.

Docket Numbers: ER16-2376-000.

Applicants: FPL Energy Marcus Hook, L.P.

Description: Compliance filing: Informational Filing, Submission of Tariff Record, and Request for Waiver to be effective 8/5/2016.

Filed Date: 8/4/16.

Accession Number: 20160804-5098.

Comments Due: 5 p.m. ET 8/25/16.

Docket Numbers: ER16-2377-000.

Applicants: FPL Energy MH50, L.P.

Description: Compliance filing: Informational Filing, Submission of Tariff Record, and Request for Waiver to be effective 8/5/2016.

Filed Date: 8/4/16.

Accession Number: 20160804-5099.

Comments Due: 5 p.m. ET 8/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2016.
Nathaniel J. Davis, Sr.,
Deputy Secretary.

[FR Doc. 2016-19066 Filed 8-10-16; 8:45 am]

BILLING CODE 6717-01-P